FEDERAL MARITIME COMMISSION

46 CFR Ch. IV

[Docket No. 90-23]

Tariffs and Service Contracts

AGENCY: Federal Maritime Commission.

ACTION: Proceeding Discontinued.

SUMMARY: The Federal Maritime Commission (“Commission”) published a Final and an Interim Rule in this proceeding as a new Part 514 of Title 46 CFR, covering tariffs and service contracts filed into the Commission's electronic system. The Ocean Shipping Reform Act of 1998 became effective May 1, 1999, and eliminated public tariff filing with the Commission. Accordingly, Part 514 of Title 46 CFR was deleted. Therefore, this proceeding can be, and hereby is, discontinued.

DATES: This proceeding is discontinued July 18, 2001.

FOR FURTHER INFORMATION CONTACT: Bruce A. Dombrowski, Executive Director, Federal Maritime Commission, 800 North Capitol Street, NW., Washington, DC 20573, (202) 523-5800.

SUPPLEMENTARY INFORMATION: A Notice of Proposed Rulemaking was published in the Federal Register on September 9, 1991 (56 FR 46044), proposing a new Part 514 of Title 46 CFR covering tariffs and service contracts filed into the Commission's Automated Tariff Filing and Information (“ATFI”) System. After comments were considered by the Commission, a Final Rule was issued November 25, 1991 (56 FR 61164; December 2, 1991), and an Interim Rule was issued August 4, 1992 (57 FR 36248; August 12, 1992), implementing Part 514 and the ATFI System. These rules also incorporated all existing non-obsolete tariff regulations.

The Ocean Shipping Reform Act of 1998 became effective May 1, 1999, and eliminated public tariff filing with the Commission. ATFI ceased serving as the system for tariff and essential terms filing as of that date. The provisions of 46 CFR Part 514 were removed when the Commission adopted rules implementing the Ocean Shipping Reform Act of 1998 (64 FR 11186, March 8, 1999). Therefore, this proceeding is hereby discontinued.

By the Commission.
Bryant L. VanBrakle,
Secretary.

[FR Doc. 01-17874 Filed 7-17-01; 8:45 am]

BILLING CODE 6730-01-P